ENVIRONMENTAL PROTECTION AGENCY

[FRL-10000-19-OLEM]

Comprehensive Environmental Response, Compensation and Liability Act (CERCLA) or Superfund, Section 128(a); Notice of Grant Funding Guidance for State and Tribal Response Programs for Fiscal Year 2020

AGENCY: Environmental Protection Agency (EPA).

ACTION: Notice.

SUMMARY: EPA Section 128(a) of the Comprehensive Environmental Response, Compensation, and Liability Act (CERCLA), as amended, authorizes a noncompetitive $50 million grant program to establish and enhance state and tribal response programs. These response programs generally address the assessment, cleanup, and redevelopment of brownfields sites and other sites with actual or perceived contamination. For Fiscal Year (FY) 2020, EPA will consider grant requests up to a maximum of $1.0 million per state or tribe. This document announces the availability of guidance that will assist states and tribes in the development and submission of grant applications and the use of Fiscal Year 2020 section 128(a) funds.

DATES: The FY 2020 grant funding guidance is applicable as of October 1, 2019. EPA expects to make non-competitive grant awards to states and tribes which apply during FY 2020.

FOR FURTHER INFORMATION CONTACT: Rachel Lentz, Office of Brownfields and Land Revitalization, Environmental Protection Agency, 1200 Pennsylvania Ave. NW, Washington, DC 20460-0001; telephone number (202) 566-2745.

SUPPLEMENTARY INFORMATION:

I. General Information

A. Does this action apply to me?

You may be affected by this action if you administer a State or tribal response program that oversees assessment and cleanup activities at brownfield sites across the country.

B. How can I get copies of the grant funding guidance and other related information?

1. Docket. The docket for this action, identified by docket identification (ID) number EPA-HQ-OLEM-2019-0540, is available online at https://www.regulations.gov or in person at the Office of Land and Emergency Management Docket (OLEM Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OLEM Docket is (202) 566-0270. Please review the visitor instructions and additional information about the docket that is available at https://www.epa.gov/dockets.

2. Electronic access. To access the grant funding guidance on EPA's website, please go to https://www.epa.gov/brownfields/types-brownfields-grant-funding.

II. Authority

CERCLA section 128(a) (42 U.S.C. 9628(a)) authorizes a noncompetitive $50 million grant program to establish and enhance state and tribal response programs. CERCLA section 128(a)(1)(B)(ii)(III) authorizes a noncompetitive $1.5 million grant program to assist small communities, Indian tribes, rural areas, or disadvantaged areas to carry out CERCLA section 104(k)(7) (42 U.S.C. 9604(k)(7)) (i.e., by providing training, research, and technical assistance to individuals and organizations, as appropriate, to facilitate the inventory of brownfields sites, site assessments, remediation of brownfield sites, community involvement, or site preparation).

III. Background

1. General. State and tribal response programs oversee assessment and cleanup activities at brownfield sites across the country. The depth and breadth of these programs vary. Some focus on CERCLA related activities, while others are multi-faceted, addressing sites regulated by both CERCLA and the Resource Conservation and Recovery Act (42 U.S.C. 6901 et seq.). Many states also offer accompanying financial incentive programs to spur cleanup and redevelopment. In enacting the Small Business Liability Relief and Brownfields Revitalization Act (Pub. L. 107-118, 115 Stat. 2356), which added section 128 to CERCLA, Congress recognized the value of state and tribal response programs in cleaning up and redeveloping brownfield sites. Section 128(a) recognizes the response programs' critical role in overseeing cleanups and strengthens EPA's partnerships with states and tribes.

CERCLA section 128(a) response program grants are funded with categorical State and Tribal Assistance Grant (STAG) appropriations. Categorical grants are issued by Congress to fund state and local governments for narrowly defined purposes. This funding is intended for those states and tribes that have the required management and administrative capacity within their government to administer a federal grant. The primary goal of this funding is to ensure that state and tribal response programs include, or are taking reasonable steps to include, certain elements of an environmental response program and that the program establishes and maintains a public record of sites addressed.

Section 128(a) cooperative agreements are awarded and administered by the EPA regional offices. Generally, these response programs address the assessment, cleanup, and redevelopment of brownfields sites and other sites with actual or perceived contamination. Subject to the availability of funds, EPA regional personnel will provide technical assistance to states and tribes as they apply for and carry out section 128(a) cooperative agreements.

2. Catalogue of Federal Domestic Assistance (CFDA) and EPA Funding Opportunity Number (FON). The CFDA entry for the section 128(a) State and Tribal Response Program cooperative agreements is 66.817. The FON for FY 2020 section 128(a) funds is EPA-CEP-02. This grant program is eligible to be included in state and tribal Performance Partnership Grants under 40 CFR part 35 Subparts A and B, with the exception of funds used to capitalize a revolving loan fund for brownfield remediation under CERCLA section 104(k)(3) or of funds received for a Small Technical Assistance Grant under CERLCA section 128(a)(I)(B)(ii)(III); or purchase environmental insurance or developing a risk sharing pool, an indemnity pool, or insurance mechanism to provide financing for response actions under a State or Tribal response program.

3. Application period. Requests for funding will be accepted from October 1, 2019 through December 6, 2019. Requests EPA receives after December 6, 2019 will not be considered for FY 2020 funding. States or tribes that do not submit the request in the appropriate manner may forfeit their ability to receive funds. First time requestors are strongly encouraged to contact their respective Regional EPA Brownfields contacts, identified in Table 1, prior to submitting their funding request. EPA will consider funding requests up to a maximum of $1.0 million per state or tribe for FY 2020.

Requests submitted by the December 6, 2019 request deadline are preliminary; final cooperative agreement work plans and budgets will be negotiated with the regional offices once final funding allocation determinations are made. As in previous years, EPA will place special emphasis on reviewing a cooperative agreement recipient's use of prior section 128(a) funding in making allocation decisions and unexpended balances are subject to 40 CFR 35.118 and 40 CFR 35.518 to the extent consistent with this guidance. Also, EPA will prioritize funding for recipients establishing their response programs.

Table 1—EPA Regional Brownfields Contacts for State and Tribal Response Programs
Regional office | State response program contact | Tribal response program contact
Region 1 (CT, ME, MA, NH, RI, VT) | James Byrne, 5 Post Office Square, Suite 100 (OSRR07-2), Boston, MA 02109-3912, Phone: (617) 918-1389; Fax: (617) 918-1294 | AmyJean McKeown, 5 Post Office Square, Suite 100 (OSRR07-2), Boston, MA 02109-3912, Phone: (617) 918-1248; Fax: (617) 918-1294.
Region 2, (NJ, NY, PR, VI) | John Struble, 290 Broadway, 18th Floor, New York, NY 10007-1866, Phone: (212) 637-4291; Fax: (212) 637-3083 | Phillip Clappin, 290 Broadway, 18th Floor, New York, NY 10007-1866, Phone: (212) 637-4431; Fax: (212) 637-3083.
Region 3, (DE, DC, MD, PA, VA, WV) | Michael Taurino, 1650 Arch Street (3HS51), Philadelphia, PA 19103, Phone: (215) 814-3371; Fax: (215) 814-3274 | Michael Taurino, 1650 Arch Street (3HS51), Philadelphia, PA 19103, Phone: (215) 814-3371; Fax: (215) 814-3274.
Region 4, (AL, FL, GA, KY, MS, NC, SC, TN) | Cindy Nolan, 61 Forsyth Street SW, 10TH FL (9T25), Atlanta, GA 30303-8960, Phone: (404) 562-8425; Fax: (404) 562-8788 | Cindy Nolan, 61 Forsyth Street SW, 10TH FL (9T25), Atlanta, GA 30303-8960, Phone: (404) 562-8425; Fax: (404) 562-8788.
Region 5, (IL, IN, MI, MN, OH, WI) | Keary Cragan, 77 West Jackson Boulevard (SB-5J), Chicago, IL 60604-3507, Phone: (312) 353-5669; Fax: (312) 692-2161 | Rosita Clark, 77 West Jackson Boulevard (SB-5J), Chicago, IL 60604-3507, Phone: (312) 886-7251; Fax: (312) 697-2075.
Region 6, (AR, LA, NM, OK, TX) | Roger Hancock, 1445 Ross Avenue, Suite 1200 (6SF), Dallas, TX 75202-2733, Phone: (214) 665-6688; Fax: (214) 665-6660 | Roger Hancock, 1445 Ross Avenue, Suite 1200 (6SF), Dallas, TX 75202-2733, Phone: (214) 665-6688; Fax: (214) 665-6660.
Region 7, (IA, KS, MO, NE) | Susan Klein, 11201 Renner Boulevard (SUPRSTAR), Lenexa KS 66219, Phone: (913) 551-7786; Fax: (913) 551-9786 | Jennifer Morris, 11201 Renner Boulevard (SUPRSTAR), Lenexa KS 66219, Phone: (913) 551-7341; Fax: (913) 551-9341.
Region 8, (CO, MT, ND, SD, UT, WY) | Christina Wilson, 1595 Wynkoop Street (EPR-AR), Denver, CO 80202-1129, Phone: (303) 312-6706; Fax: (303) 312-6065 | Melisa Devincenzi, 1595 Wynkoop Street (EPR-AR), Denver, CO 80202-1129, Phone: (303) 312-6377; Fax: (303) 312-6962.
Region 9, (AZ, CA, HI, NV, AS, GU, MP) | Jose Garcia, Jr., 600 Wilshire Blvd, Suite 1460, Los Angeles, CA 90017, Phone: (213) 244-1811; Fax: (213) 244-1850 | Jose Garcia, Jr., 600 Wilshire Blvd, Suite 1460, Los Angeles, CA 90017, Phone: (213) 244-1811; Fax: (213) 244-1850.
Region 10, (AK, ID, OR, WA) | Mary K. Goolie, 222 West 7th Avenue #19 (AOO), Anchorage, AK 99513, Phone: (907) 271-3414; Fax: (907) 271-3424 | Mary K. Goolie, 222 West 7th Avenue #19 (AOO), Anchorage, AK 99513, Phone: (907) 271-3414; Fax: (907) 271-3424.

Authority: 42 U.S.C. 9628(a).

Dated: September 10, 2019.
David R. Lloyd,
Director, Office of Brownfields and Land Revitalization.

[FR Doc. 2019-20554 Filed 9-20-19; 8:45 am]

BILLING CODE 6560-50-P